DEPARTMENT OF THE INTERIOR

Bureau of Land Management

[OR-105-1990-HP; GP01-0029; OR 56024]

Closure of Public Lands: Douglas County, OR

AGENCY: Bureau of Land Management, Roseburg District Office, South River Field Office, Interior.

ACTION: Closure of public lands in Douglas County, Oregon.

SUMMARY: The following areas are closed to and restricted from public uses, including camping, hunting, mining, erecting structures and storing personal property, until further notice. The Oregon Department of Environmental Quality is conducting an interim removal action of acid mine drainage from the Formosa Abandoned Mine Land. This closure is to protect human health and to provide security for the facilities.

EFFECTIVE DATE: The closure will become effective immediately and will remain in effect until further notice.

FOR FURTHER INFORMATION CONTACT: Eric Heenan, Mining Engineering Technician, South River Field Office, 777 NW Garden Valley Blvd., Roseburg, Oregon 97470, (541) 440-4930.

SUPPLEMENTARY INFORMATION: Notice is hereby given that pursuant to 43 CFR 8364.1 (Closure and Restriction Orders), which provides, in part, for the authorized officer to close or restrict use of designated public lands for the protection of persons, property, and public lands and resources, the following areas are closed to and restricted from public uses, including camping, hunting, mining, erecting structures and storing personal property, until further notice. Maps showing the described area are available at the BLM's Roseburg District Office. The public lands closed under this order will be posted with signs at points of access. This closure is consistent with the Roseburg District Record of Decision and Resource Management Plan, June 1995.

The public lands affected by this closure are located around Silver Butte and along Middle Creek and South Fork Middle Creek, approximately 6 miles south of Riddle, Oregon. Use of motorized vehicle on existing improved roads is allowed. The lands involved are more specifically described as:

Willamette Principal Meridian, Douglas County, Oregon

T. 31 S., R. 6 W.,

Sec. 22, S½S½SE¼,

Sec. 23, S½SW¼.

Containing approximately 120 acres.

The following persons, operating within the scope of their official duties, are exempt from the provisions of this closure order: Bureau of Land Management employees; State of Oregon employees and subcontractors; state, local and federal law enforcement and fire protection personnel. Additional parties may be allowed, but must have advanced written approval from the Authorized Officer.

Any person who fails to comply with the provisions of this closure may be subject to, but not limited to, the penalties provided in 43 CFR 8360.0-7, which include a fine not to exceed $1,000 and/or imprisonment of not to exceed 12 months, as well as the penalties provided under Oregon State law.

Dated: November 1, 2000.
E. Dwight Fielder,
Field Manager, South River Field Office.

[FR Doc. 00-29395 Filed 11-15-00; 8:45 am]

BILLING CODE 4310-33-P